DEPARTMENT OF HEALTH AND HUMAN SERVICES

Centers for Disease Control and Prevention

National Center for Health Statistics, Meeting of the ICD-10 Coordination and Maintenance Committee

AGENCY: Centers for Disease Control and Prevention (CDC), Department of Health and Human Services (HHS).

ACTION: Notice of meeting.

SUMMARY: The Centers for Disease Control and Prevention (CDC), National Center for Health Statistics (NCHS), Classifications and Public Health Data Standards Staff, announces the following meeting of the ICD-10 Coordination and Maintenance (C&M) Committee. This meeting is open to the public, limited only by the number of audio lines available. Online registration is required.

DATES: The meeting will be held on September 9, 2025, from 9 a.m. to 5 p.m., EDT, and September 10, 2025, from 9 a.m. to 5 p.m., EDT.

ADDRESSES: This is a virtual meeting. Register in advance for this webinar: https://cms.zoomgov.com/webinar/register/WN_cfwiQyYuR4uyU1x0HZKCKA. After registering, you will receive a confirmation email containing information about joining the webinar. For CDC, NCHS: https://www.cdc.gov/nchs/icd/icd-10-maintenance/meetings.html. For the Centers for Medicare & Medicaid Services, Department of Health and Human Services: https://www.cms.gov/medicare/coding-billing/icd-10-codes/icd-10-coordination-maintenance-committee-materials.

FOR FURTHER INFORMATION CONTACT: Traci Ramirez, Medical Classification Specialist, National Center for Health Statistics, Centers for Disease Control and Prevention, 3311 Toledo Road, Hyattsville, Maryland 20782-2064. Telephone: (301) 458-4454; Email: TRamirez@cdc.gov.

SUPPLEMENTARY INFORMATION:

Purpose: The ICD-10 Coordination and Maintenance (C&M) Committee is a public forum for the presentation of proposed modifications to the International Classification of Diseases, Tenth Revision, Clinical Modification (CM) and ICD-10 Procedure Coding System (PCS).

Matters to be Considered: The tentative agenda will include discussions on the ICD-10-CM and ICD-10-PCS topics listed below. Agenda items are subject to change as priorities dictate. Please refer to the posted agenda for updates one month prior to the meeting.

ICD-10-PCS Topics:

1. Division of Myocardial Septum ***

2. Dilation using Electromechanical Obstetrical Dilator**

3. Dilation of the Inferior Vena Cava with an Open-Structure Lattice Stent**

4. Insertion of a Lumenless Small Diameter Defibrillator Lead**

5. Measurement of Whole-Body Mass Composition*

6. Computer-aided Assessment of Glucose***

7. Bypass of Inferior Vena Cava using Autologous Cell Seeded Tissue Engineered Resorbable Scaffold*

8. Section X Updates

9. Addenda and Key Updates

10. Administration of DB-OTO*

11. Administration of CPI-601*

12. Administration of ZEMAIRA**

13. Administration of anitocabtagene autoleucel**

* Request is for an April 1, 2026 implementation date.

** Request is for an April 1, 2026 implementation date and the requestor intends to submit a new technology add-on payment (NTAP) application for future consideration.

*** Request is for an October 1, 2026 implementation date and the requestor intends to submit an NTAP application for future consideration.

CMS will not present the Fall 2025 ICD-10-PCS procedure code topics during the virtual meeting. Instead, CMS will post the procedure code topic materials and solicit public comments regarding any clinical questions or coding options consistent with the approach utilized for the Spring 2025 Update and have utilized as of March 2021 for the procedure code requests that involve a new technology add-on payment (NTAP) application for the administration of a therapeutic agent. The deadline to submit comments for procedure code topics being considered for an April 1, 2026, implementation is October 10, 2025, and the deadline to submit comments for procedure code topics being considered for an October 1, 2026, implementation is November 14, 2025.

Members of the public should send any questions or comments related to the procedure code topics that are under consideration for an April 1, 2026 implementation or an October 1, 2026 implementation to the CMS mailbox at: ICDProcedureCodeRequest@cms.hhs.gov by the respective deadline.

All procedure code topic materials and related documents will be made available on the CMS website at https://www.cms.gov/medicare/coding-billing/icd-10-codes/icd-10-coordination-maintenance-committee-materials. Additionally, CMS will post a question-and-answer document to address any clinical or coding questions that members of the public submit by the designated October 10, 2025, or November 14, 2025, deadline.

CDC, NCHS will make all meeting materials and related documents available at: https://www.cdc.gov/nchs/icd/icd-10-maintenance/meetings.html. Any inquiries related to the diagnoses code topics scheduled for the September 9-10, 2025, ICD-10 C&M Committee meeting should be sent to the CDC, NCHS mailbox at: nchsicd10cm@cdc.gov.

ICD-10-CM Topics:

1. Amyloid-related imaging abnormalities (ARIA)

2. Catatonia

3. Chronic hand eczema

4. Ectopic Pregnancies

5. Glanzmann thrombasthenia

6. Hepatic fibrosis

7. Hypothalamic obesity

8. Ledderhose disease/plantar fibromatosis and plantar fasciitis

9. Lipedema and lipolymphedema

10. Medetomidine withdrawal syndrome

11. Nipple ischemia and nipple necrosis

12. Odontogenic sinusitis

13. Pediatric Healthcare: Impact of Parental Mental Health

14. Pediatric Healthcare: Impact of Social Circumstance

15. Pediatric Healthcare: Screening for and preventing Child Maltreatment

16. Pediatric Hypertrophic pyloric Stenosis

17. Personal history of C diff disease

18. Postprocedural open deep wound without disruption

19. Potts puffy tumor

20. Screening of Diabetes Mellitus

21. Skin changes due to skin failure

22. Topical steroid withdrawal

23. Vanishing twin syndrome

24. Vexas Syndrome

25. Addenda

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2025-14769 Filed 8-4-25; 8:45 am]

BILLING CODE 4163-18-P